DEPARTMENT OF LABOR

Employment and Training Administration

Comment Request for Information Collection for H-1B Technical Skills Training (H-1B) and the H-1B Jobs and Innovation Accelerator Challenge (JIAC) Grant Programs, Extension With Revisions

AGENCY: Employment and Training Administration (ETA), Labor.

ACTION: Notice.

SUMMARY: The Department of Labor (Department), as part of its continuing effort to reduce paperwork and respondent burden, conducts a preclearance consultation program to provide the public and Federal agencies with an opportunity to comment on proposed and/or continuing collections of information in accordance with the Paperwork Reduction Act of 1995 [44 U.S.C. 3506(c)(2)(A)] (PRA). The PRA helps ensure that respondents can provide requested data in the desired format with minimal reporting burden (time and financial resources), collection instruments are clearly understood, and the impact of collection requirements on respondents can be properly assessed.

Currently, ETA is soliciting comments concerning the collection of data about H-1B Technical Skills Training (TST), H-1B Jobs and Innovation Accelerator Challenge (JA), and H-1B Ready To Work (RTW) grant programs. Data collection for these grant programs is currently approved under OMB Control No. 1205-0507, expiration March 31, 2016.

If an extension with revisions of this information collection is approved, this data collection will only be applicable for the H-1B TST, JA, and RTW grantees. All future H-1B grantees will not report in accordance with this data collection, and instead will report in accordance with the information collection for WIOA reporting requirements, as applicable.

DATES: Submit written comments to the office listed in the addresses section below on or before April 25, 2016.

ADDRESSES: Send written comments to Ayreen Cadwallader, Division of Strategic Investments, Room C-4518, Employment and Training Administration, U.S. Department of Labor, 200 Constitution Avenue NW., Washington, DC 20210. Telephone number: 202-693-3311 (this is not a toll-free number). Individuals with hearing or speech impairments may access the telephone number above via TTY by calling the toll-free Federal Information Relay Service at 1-877-889-5627 (TTY/TDD). Email: dsi@dol.gov. To obtain a copy of the proposed information collection request (ICR), please contact the person listed above.

FOR FURTHER INFORMATION CONTACT: Megan Baird. dsi@dol.gov.

SUPPLEMENTARY INFORMATION:

I. Background

In applying for the H-1B TST, JA, and RTW grant programs, grantees agreed to submit participant-level data and quarterly aggregate reports for individuals who receive services through these programs and their partnerships with business-related nonprofit organizations, education and training providers, including community colleges and other community-based organizations, entities involved in administering the workforce investment system established under Title I of WIA, and economic development agencies, among others. The reports include aggregate data on demographic characteristics, types of services received, placements, outcomes, and follow-up status. Specifically, they summarize data on employment and training services, placement services, and other services essential to successful unsubsidized employment through H-1B programs.

This document requests approval for an extension with revisions of an existing information collection currently approved under OMB Control No. 1205-0507, expiration March 31, 2016. The request will support efforts to meet the (1) reporting, (2) recordkeeping, and (3) program evaluation requirements of the grant programs through an ETA-provided, Web-based Management Information System (MIS), called the HUB Reporting System. The HUB system already exists and is currently in use by the H-1B TST, JA, and RTW grantees.

Grantees will report on a number of leading indicators that serve as predictors of success. These include participant support services necessary to support training and employment activities, attainment of degrees or certificates, placement into post-secondary education or vocational training, on-the-job training (OJT), classroom occupational training, contextualized learning, distance learning, apprenticeships, customized training, including incumbent worker training, and placement into unsubsidized jobs. These measures are also necessary for effective program management and conveying full and accurate information on the performance of these grant programs to policymakers and stakeholders.

This information collection maintains a reporting and record-keeping system for a minimum level of information collection that is necessary to comply with Equal Opportunity requirements, to hold grantees appropriately accountable for the Federal funds they receive, and to allow the Department to fulfill its oversight and management responsibilities.

The information collection for program evaluation includes setting up a Participant Tracking System (PTS) through the MIS to collect baseline information similar to the quarterly reports but at the individual participant level. The baseline data covered by this clearance will enable the evaluation to describe the characteristics of study participants at the time they are randomly assigned to a treatment or control group, ensure that random assignment was conducted properly, create subgroups for the analysis, provide contact information to locate individuals for follow-up surveys, and improve the precision of the impact estimates. Such data will be collected on the basis that the evaluation will consist of an experimental design employing random assignment of participants into treatment and control groups. A Web-based PTS will execute the random assignment procedures and compile baseline data on study sample members. This PTS will assure that participant data will be in a consistent format across sites.

A rigorous program evaluation also requires clear and specific documentation of the services provided to treatment group members in each of the grantee sites and the services available to control group members. This qualitative information will enable the evaluation to describe the program design and operations in each site, interpret the impact analysis results, and identify lessons learned for purposes of program replication. The process study site visits will include semi-structured interviews and focus group discussions with various program stakeholders.

II. Review Focus

The Department is particularly interested in comments which:

• evaluate whether the proposed collection of information is necessary for the proper performance of the functions of the agency, including whether the information will have practical utility;

• evaluate the accuracy of the agency's estimate of the burden of the proposed collection of information, including the validity of the methodology and assumptions used;

• enhance the quality, utility, and clarity of the information to be collected; and

• minimize the burden of the collection of information on those who are to respond, including through the use of appropriate automated, electronic, mechanical, or other technological collection techniques or other forms of information technology, e.g., permitting electronic submissions of responses.

III. Current Actions

Type of Review: Extension with revisions.

Title: H-1B Technical Skills Training (H-1B) and the H-1B Jobs and Innovation Accelerator Challenge (JIAC) grant programs.

OMB Number: 1205-0507.

Affected Public: Existing H-1B TST, JA and RTW grantees, and participants served through these programs.

Estimated Total Annual Respondents: 25,230.

Form/Activity | Total number of respondents | Number of responses per respondent | Total annual response | Average time per response (hours) | Total annual burden hours
Participant Data Collection (including baseline data for evaluation) | 25,000 participants | Continual | 25,000 | 2.66 | 66,500
Quarterly Narrative Progress Report | 85 Grantees | 12 (4 times per year) | 340 | 10 | 3400
Quarterly Performance Report | 85 Grantees | 12 (4 times per year) | 340 | 10 | 3400
Site Visit Data Collection | 60 total staff | three (once per year) | 60 | 1 hour | 60
Totals | 25,230 |  | 25,740 |  | 73,360

Estimated Total Annual Responses: 25,740.

Estimated Total Annual Burden Hours: 73,360.

Total Estimated Annual Other Costs Burden: There are no annual costs, as ETA will be responsible for the annual maintenance costs for the HUB Reporting System, a free, Web-based data collection and reporting system.

We will summarize and/or include in the request for OMB approval of the ICR, the comments received in response to this comment request; they will also become a matter of public record.

Portia Wu,
Assistant Secretary for Employment and Training, Labor.

[FR Doc. 2016-03682 Filed 2-22-16; 8:45 am]

BILLING CODE 4510-FP-P